SECURITIES AND EXCHANGE COMMISSION

[OMB Control No. 3235-0785]

Proposed Collection; Comment Request; Extension: Rule 18a-10

Upon Written Request, Copies Available From: Securities and Exchange Commission, Office of FOIA Services, 100 F Street NE, Washington, DC 20549-2736

Notice is hereby given that pursuant to the Paperwork Reduction Act of 1995 (“PRA”) (44 U.S.C. 3501 et seq.), the Securities and Exchange Commission (“Commission”) is soliciting comments on the existing collection of information provided for in Rule 18a-10 (17 CFR 240.18a-10), under the Securities Exchange Act of 1934 (15 U.S.C. 78a et seq.). The Commission plans to submit this existing collection of information to the Office of Management and Budget (“OMB”) for extension and approval.

Exchange Act Rule 18a-10 provides an alternative compliance mechanism pursuant to which stand-alone security-based swap dealers (“SBSDs”) registered as a swap dealer that predominantly engages in a swaps business, and that meet certain conditions set forth in the rule, may elect to comply with the capital, margin, segregation, recordkeeping, and reporting requirements of the Commodity Exchange Act (“CEA”) and the U.S. Commodity Futures Trading Commission's (“CFTC”) rules in lieu of complying with SEC Rules 18a-1, and 18a-3 through 18a-9. Rule 18a-10 requires the firm to provide a written disclosure to its counterparties after it begins operating pursuant to the rule. Furthermore, Rule 18a-10 requires the firm to immediately notify the Commission and the CFTC in writing if it fails to meet a condition in the rule.

There are currently two stand-alone SBSDs operating pursuant to the alternative compliance mechanism. The Commission estimates that these two stand-alone SBSDs will each spend 5 hours per year updating the disclosure language required under paragraph (b)(2) of Rule 18a-10, and that one of these stand-alone SBSDs will file the notice with the Commission required under paragraph (b)(3) of Rule 18a-10, which will impose an estimated burden of 5 minutes per year. Consequnenty, the Commission estimates that the total hour burden under Rule 18a-10 is approximately 11 hours per year.

Written comments are invited on: (a) whether the proposed collection of information is necessary for the proper performance of the functions of the Commission, including whether the information shall have practical utility; (b) the accuracy of the Commission's estimates of the burden of the proposed collection of information; (c) ways to enhance the quality, utility, and clarity of the information collected; and (d) ways to minimize the burden of the collection of information on respondents, including through the use of automated collection techniques or other forms of information technology. Consideration will be given to comments and suggestions submitted by December 16, 2024.

An agency may not conduct or sponsor, and a person is not required to respond to, a collection of information under the PRA unless it displays a currently valid OMB control number.

Please direct your written comments to: Austin Gerig, Director/Chief Data Officer, Securities and Exchange Commission, c/o Oluwaseun Ajayi, 100 F Street NE, Washington, DC 20549, or send an email to: PRA_Mailbox@sec.gov.

Dated: October 9, 2024.
Sherry R. Haywood,
Assistant Secretary.

[FR Doc. 2024-23766 Filed 10-11-24; 8:45 am]

BILLING CODE 8011-01-P